DEPARTMENT OF COMMERCE

National Oceanic and Atmospheric Administration

[I.D. 100404F]

Pacific Fishery Management Council; Public Meeting/Workshop

AGENCY: National Marine Fisheries Service (NMFS), National Oceanic and Atmospheric Administration (NOAA), Commerce.

ACTION: Notice of public meeting.

SUMMARY: NMFS and the Pacific Fishery Management Council will hold a workshop to examine and discuss stock assessment models to be used in the 2005 stock assessments of West Coast groundfish.

DATES: The workshop will be held in October 2004. See SUPPLEMENTARY INFORMATION for specific dates and times.

ADDRESSES: The workshop will be held at the NMFS Northwest Fisheries Science Center (NWFSC), 2725 Montlake Boulevard East, Seattle, WA 98112.

Council address: Pacific Fishery Management Council, 7700 NE Ambassador Place, Suite 200, Portland, OR 97220-1384.

FOR FURTHER INFORMATION CONTACT: Stacey Miller, NMFS NWFSC; telephone: 206-860-3480; or John DeVore, Pacific Fishery Management Council; telephone: 503-820-2280.

SUPPLEMENTARY INFORMATION: The workshop will be held on Monday, October 25, 2004, from 1 p.m. to 5 p.m.; Tuesday October 26, 2004, through Thursday, October 28, 2004, from 8:30 a.m. to 5 p.m., and Friday, October 29, 2004, from 8:30 a.m. to 12 p.m.

The purpose of the workshop is for authors to announce and discuss the models they will use in the 2005 West Coast groundfish stock assessments. Specifically, the workshop will be convened to examine the performance of stock assessment models as well as discuss authors' progress using these models. Additional topics to be discussed during the workshop include analytical methods for preparing data for model input, calculating and reporting uncertainty in stock assessments, and species-specific modeling issues.

Although non-emergency issues not contained in the meeting agenda may come before the workshop participants for discussion, those issues may not be the subject of formal workshop action during this meeting. Workshop action will be restricted to those issues specifically listed in this notice and any issues arising after publication of this notice that require emergency action under Section 305(c) of the Magnuson-Stevens Fishery Conservation and Management Act, provided the public has been notified of the workshop participants' intent to take final action to address the emergency.

Special Accommodations

This meeting is physically accessible to people with disabilities. Requests for sign language interpretation or other auxiliary aids should be directed to Carolyn Porter at 503-820-2280 at least five days prior to the meeting date.

Entry to the NWFSC requires visitors to show a valid picture ID and register with security. A visitor's badge, which must be worn while at the NWFSC facility, will be issued to non-Federal employees participating in the meeting.

Dated: October 5, 2004.
Alan D. Risenhoover,
Acting Director, Office of Sustainable Fisheries, National Marine Fisheries Service.

[FR Doc. E4-2562 Filed 10-7-04; 8:45 am]

BILLING CODE 3510-22-S